FEDERAL COMMUNICATIONS COMMISSION

Notice of Public Information Collection(s) Being Submitted for Review to the Office of Management and Budget

May 13, 2008.

SUMMARY: The Federal Communications Commission, as part of its continuing effort to reduce paperwork burden invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before June 20, 2008. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via internet at Nicholas_A._Fraser@omb.eop.gov and to Judith-B.Herman@fcc.gov, Federal Communications Commission, or an e-mail to PRA@fcc.gov. To view a copy of this information collection request (ICR) submitted to OMB: (1) Go to the Web page http://reginfo.gov/public/do/PRAMain, (2) look for the section of the web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information or copies of the information collection(s), contact Judith B. Herman at 202-418-0214 or via the Internet at Judith-B.Herman@fcc.gov.

SUPPLEMENTARY INFORMATION: OMB Control Number: 3060-0999.

Title: Section 20.19, Hearing Aid-Compatible Mobile Handsets (Hearing Aid-Compatibility Act).

Form No.: N/A.

Type of Review: Revision of a currently approved collection.

Respondents: Business or other for-profit.

Number of Respondents: 925 respondents; 950 responses.

Estimated Time Per Response: 13.2 hours average burden per response.

Frequency of Response: On occasion and annual reporting requirements and third party disclosure requirement (labeling/posting requirements).

Obligation to Respond: Required to obtain or retain benefits.

Total Annual Burden: 12,600 hours.

Total Annual Cost: N/A.

Privacy Act Impact Assessment: N/A.

Nature and Extent of Confidentiality: Information requested in the reports may include confidential information. However, covered entities would be allowed to request that such materials submitted to the Commission be withheld from public inspection (see 47 CFR 0.459 of the Commission's rules).

Needs and Uses: The Commission will submit this information collection (IC) to the OMB as a revision during this comment period to obtain the full three-year clearance from them. This information collection was pre-approved by the Office of Management and Budget (OMB) when the Commission adopted the Notice of Proposed Rulemaking on 12/27/07.

[Previously approved was a Report and Order adopted in 2003 in which the Commission modified the exemption for telephones used with public mobile services from the requirements of the Hearing Aid Compatibility Act of 1988 (HAC Act). The Order required digital wireless phone manufacturers and service providers to make certain digital wireless phones capable of effective use with hearing aids. As part of that Order, manufacturers and service providers were required to label certain phones they sold with information about their compatibility with hearing aids, and also to report to the Commission (at first every six months, then on an annual basis) on the number and types of hearing aid-compatible phones they were producing or offering to the public.]

Now, the Commission has adopted and released a Report and Order, FCC 08-68, which updated several of the performance benchmarks for manufacturers and service providers, instituted new requirements for manufacturers to refresh their product lines and for service providers to offer hearing aid-compatible handset models with differing levels of functionality, adopted a new version of the technical standard for measuring hearing aid compliance, and addressed the application of the rules to phones that operate in multiple frequency bands or air interfaces. To assist the Commission in monitoring the implementation of the new requirements and to provide information to the public, the Report and Order also requires manufacturers and service providers to continue to file annual reports on the status of their compliance with these requirements, and requires manufacturers and service providers that maintain public Web sites to publish up-to-date information on those Web sites regarding their hearing aid-compatible handset models. The annual reports required in this Order contain different and additional information than in previous versions of this information collection (see above). Those requirements, along with the requirement to post certain information on Web sites, are intended to give consumers the information they need to navigate a technically complex and rapidly changing world of hearing aid-compatible wireless phones, and to allow the Commission to monitor compliance with its new regulations. Finally, in order to avoid potential consumer confusion over technical capabilities, the Order modified the product labeling requirements slightly.

Federal Communications Commission.
Marlene H. Dortch,
Secretary.

[FR Doc. E8-11399 Filed 5-20-08; 8:45 am]

BILLING CODE 6712-01-P